GENERAL SERVICES ADMINISTRATION

41 CFR 102-34

[Notice-MA-2020-13; Docket No. 2020-0002; Sequence No. 36]

Use of Government-Issued Fleet Charge Cards Guidance

AGENCY: Office of Government-wide Policy (OGP), General Services Administration (GSA).

ACTION: Availability of GSA Bulletin FMR B-53, Motor Vehicle Management.

SUMMARY: This Federal Management Regulation (FMR) bulletin recommends Federal agencies establish policies addressing Government-issued fleet charge card compliance with Section 889(a)(1)(B) of the John S. McCain National Defense Authorization Act (NDAA) for Fiscal Year (FY) 2019 (Pub. L. 115-232) and security risks associated with fleet charge card transactions.

DATES: Applicability Date: December 18, 2020.

FOR FURTHER INFORMATION CONTACT: For clarification of content, contact Mr. James Vogelsinger, Director, Vehicle Policy Division, GSA, at 202-501-1764, or email vehicle.policy@gsa.gov. Please cite Notice of FMR Bulletin B-53.

SUPPLEMENTARY INFORMATION: Background: Section 889(a)(1)(B) of the John S. McCain National Defense Authorization Act (NDAA) for Fiscal Year (FY) 2019 (Pub. L. 115-232) prohibits contracting with entities that use certain telecommunications and video surveillance services or equipment. This bulletin makes Federal agencies aware of this prohibition and recommends that agencies establish policies that facilitate compliance when a Government-issued fleet charge card is used to acquire fuel or maintenance services for Government motor vehicles.

This bulletin also recommends policies and practices agencies and charge card users may implement to lessen the security risks associated with fleet charge card transactions.

This bulletin can be viewed at www.gsa.gov/reference/gsa-bulletins.

Jessica Salmoiraghi,
Associate Administrator, Office of Government-wide Policy.

[FR Doc. 2020-26378 Filed 12-17-20; 8:45 am]

BILLING CODE 6820-14-P